DEPARTMENT OF LABOR

Employment and Training Administration

[TA-W-37,493 and NAFTA-3802]

Levi Strauss & Company, RMQ Lab, Pellicano Finishing Plant, El Paso, Texas; Notice of Negative Determination Regarding Application for Reconsideration

By application dated August 1, 2000, filed by the petitioners, and August 21, 2000, filed by the company, administrative reconsideration is requested regarding the Department's negative determination of eligibility for workers of the subject firm to apply for Trade Adjustment Assistance (TAA) under petition number TA-W-37,493 and North American Free Trade Agreement-Transitional Adjustment Assistance (NAFTA-TAA) under petition number NAFTA-3802. The denial notices were signed on July 17, 2000, and published in the Federal Register on August 1, 2000 (65 FR 46954).

Pursuant to 29 CFR 90.18(c) reconsideration may be granted under the following circumstances:

(1) if it appears on the basis of facts not previously considered that the determination complained of was erroneous;

(2) if it appears that the determination complained of was based on a mistake in the determination of facts not previously considered; or

(3) if in the opinion of the Certifying Officer, a misinterpretation of facts or of the law justified reconsideration of the decision.

The petitioners report that prior to the Pellicano plant closure, workers tested both domestic and foreign production. When the Pellicano plant closed, the workers at the Raw Material Quality Department (RMQ) lab in El Paso were left with only testing Mexican contractor's production and domestic and Mexican fabric. The petitioners state that there was no lab in Powell, Tennessee, until the El Paso lab shut down.

The company official's request for reconsideration emphasizes that Levi Strauss & Company closed six production plants in the El Paso area. Because of these closures, Levi Strauss & Company closed the El Paso Pellicano lab, and all employees were terminated in October 1999. The company states that imports contributed to the decision to close the six plants and the Pellicano lab. The company further states that an RMQ was created in Powell, Tennessee, using fewer workers than in the El Paso RMQ.

The workers at Levi Strauss & Company, RMQ lab, at the Pellicano Finishing Plants, El Paso, Texas, engaged in testing and quality control of denim products were denied eligibility to apply for TAA and NAFTA-TAA based on the findings that worker separations were attributable to the company's decision to have the RMQ lab work done at another domestic facility of Levi Strauss.

The petitioners and the company official both assert that some former El Paso lab employees are eligible for NAFTA-TAA. Our petition records do not show that a NAFTA-TAA certification has been issued for the RMQ workers.

Conclusion

After review of the application and investigative findings, I conclude that there has been no error or misinterpretation of the law or of the facts which would justify reconsideration of the Department of Labor's prior decision. Accordingly, the application is denied.

Signed at Washington, D.C. this 30th day of August 2000.
Edward A. Tomchick,
Director, Division of Trade Adjustment Assistance.

[FR Doc. 00-23343 Filed 9-11-00; 8:45 am]

BILLING CODE 4510-30-M